DEPARTMENT OF COMMERCE

International Trade Administration

[C-351-863, C-122-872, C-201-864, C-552-844]

Certain Corrosion-Resistant Steel Products From Brazil, Canada, Mexico, and the Socialist Republic of Vietnam: Postponement of Preliminary Determinations in the Countervailing Duty Investigations

AGENCY: Enforcement and Compliance, International Trade Administration, Department of Commerce.

DATES: Applicable November 14, 2024.

FOR FURTHER INFORMATION CONTACT: Paul Senoyuit (202) 482-6106, or Sofia Pedrelli (202) 482-4310, Office II (Brazil), Colin Thrasher (202) 482-3004, Office V (Canada), Maria Aymerich (202) 482-0499, Office IV (Mexico), or Mary Kolberg (202) 482-1785, Office I (Vietnam), AD/CVD Operations, Enforcement and Compliance, International Trade Administration, U.S. Department of Commerce, 1401 Constitution Avenue NW, Washington, DC 20230.

SUPPLEMENTARY INFORMATION:

Background

On September 25, 2024, the U.S. Department of Commerce (Commerce) initiated countervailing duty (CVD) investigations of U.S. imports of certain corrosion-resistant steel products (CORE) from Brazil, Canada, Mexico, and the Socialist Republic of Vietnam (Vietnam).¹ Currently, the preliminary determinations in these investigations are due no later than November 29, 2024.

¹ See Certain Corrosion-Resistant Steel Products from Brazil, Canada, Mexico, and the Socialist Republic of Vietnam: Initiation of Countervailing Duty Investigations, 89 FR 80204 (October 2, 2024).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for an extension of the period within which the determination must be made; or (B) Commerce concludes that the parties concerned are cooperating, that the investigation is extraordinarily complicated, and that additional time is necessary to make the preliminary determination. Under 19 CFR 351.205(e), the petitioner must submit a request for postponement 25 days or more before the scheduled date of the preliminary determination and must state the reasons for the request. Commerce will grant the request unless it finds compelling reasons to deny the request.

On November 4, 2024, Steel Dynamics, Inc. (SDI), Nucor Corporation (Nucor), United States Steel Corporation (U.S. Steel), Wheeling-Nippon Steel, Inc. (Wheeling-Nippon), and the United Steel, Paper and Forestry, Rubber, Manufacturing, Energy, Allied Industrial and Service Workers International Union, AFL-CIO, CLC (the USW), the petitioners in the respective investigations, timely requested that Commerce postpone the preliminary determinations in the investigations.² The petitioners requested postponement of the preliminary determinations in the investigations so that Commerce can fully analyze the forthcoming questionnaire responses of the mandatory respondents and issue supplemental questionnaires, as necessary.³

² We note that Nucor is not a petitioner with respect to the CVD investigation on CORE from Mexico, and U.S. Steel, Wheeling-Nippon, and the USW are not petitioners with respect to the CVD investigation on CORE from Canada. See Brazil Petitioners' Letter, “Request to Extend the Deadline for the Preliminary Determination,” dated November 4, 2024; see also Canada Petitioners' Letter, “Request to Extend the Deadline for the Preliminary Determination,” dated November 4, 2024; Mexico Petitioners' Letter, “Request to Extend the Deadline for the Preliminary Determination,” dated November 4, 2024; and Vietnam Petitioners' Letter, “Request to Extend the Deadline for the Preliminary Determination,” dated November 4, 2024.

³ Id.

In accordance with 19 CFR 351.205(e), the petitioners submitted their requests for postponement of the preliminary determinations in the investigations 25 days or more before the scheduled date of the preliminary determinations and stated the reasons for their requests. Commerce finds no compelling reason to deny the requests. Therefore, in accordance with section 703(c)(1)(A) of the Act, Commerce is postponing the deadline for the preliminary determinations in the investigations to no later than 130 days after the date on which it initiated the investigations, i.e., February 3, 2025.⁴

⁴ Postponing the preliminary determinations to 130 days after initiation of the investigations would make the deadline Sunday, February 2, 2025. Commerce's practice dictates that, where a deadline falls on a weekend or federal holiday, the appropriate deadline is the next business day, in this case Monday, February 3, 2025. See Notice of Clarification: Application of “Next Business Day” Rule for Administrative Determination Deadlines Pursuant to the Tariff Act of 1930, As Amended, 70 FR 24533 (May 10, 2005).

Pursuant to section 705(a)(1) of the Act and 19 CFR 351.210(b)(1), the deadline for the final determinations in the investigations will continue to be 75 days after the date of the preliminary determinations.

This notice is issued and published pursuant to section 703(c)(2) of the Act and 19 CFR 351.205(f)(1).

Dated: November 7, 2024.
Abdelali Elouaradia,
Deputy Assistant Secretary for Enforcement and Compliance.

[FR Doc. 2024-26459 Filed 11-13-24; 8:45 am]

BILLING CODE 3510-DS-P